DEPARTMENT OF ENERGY

Federal Energy Regulatory Commission

[Project No. 2660-028]

Woodland Pulp LLC; Notice of Application Accepted for Filing, Soliciting Comments, Motions To Intervene, and Protests

Take notice that the following hydroelectric application has been filed with the Commission and is available for public inspection:

a. Type of Application: Surrender of License.

b. Project No.: 2660-028.

c. Date Filed: December 23, 2016.

d. Applicant: Woodland Pulp LLC.

e. Name of Project: Forest City Project.

f. Location: On the East Branch of the St. Croix River in Washington and Aroostook Counties, Maine.

g. Filed Pursuant to: 18 CFR 6.1.

h. Applicant Contact: Mr. Scott Beal, Woodland Pulp LLC, 144 Main Street, Baileyville, ME 04694, Tel: 207-427-4004.

i. FERC Contact: Mr. M. Joseph Fayyad, (202) 502-8759, Mo.Fayyad@ferc.gov.

j. Deadline for filing comments, motions to intervene and protests, is 30 days from the issuance date of this notice. The Commission strongly encourages electronic filing. Please file motions to intervene, protests, comments, and recommendations, using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-2660-028.

k. Description of Project Facilities: The Forest City Project is located at river mile 58 of the East Branch of the St. Croix River on the international boundary between the United States and Canada. The existing project as licensed includes only the lands, waters, and structures that are located in the United States, which consist of: (a) A 147-foot-long section of the 540-foot-long, 12-foot-high earth Forest City Dam that includes: (i) A 110-foot-long west earth embankment, and (ii) a 37-foot-long section of the timber-crib spillway section with two 8.3-foot-wide, 10-foot-high spillway gates on the west side of the spillway, which control the impoundment between a minimum elevation of 427.94 feet mean sea level (msl) and a maximum elevation of 434.94 feet msl; (b) a 9,141-acre portion of the 17,040-acre multi-lake impoundment (North Lake and East Grand Lake); and (c) appurtenant facilities. The project does not occupy federal lands and there are no generating facilities located at the project.

l. Description of Request: The licensee proposes to surrender the license for the Forest City Project due to economic considerations. As part of its surrender, the licensee plans to remove the two 8.3-foot-wide, 10-foot-high gates on the west side of the spillway. The licensee states that by removing the gates, water flow will return to natural flow conditions and the Forest City Dam will no longer act as the water control structure for East Grand Lake or use, obstruct, or divert international boundary waters. The licensee states that the removal of the gates will lower the water elevation at the dam to 427.94 feet msl, but the minimum elevation will be 428.69 msl because of a natural obstruction upstream of the dam.

m. Locations of the Application: A copy of the application is available for inspection and reproduction at the Commission's Public Reference Room, located at 888 First Street NE., Room 2A, Washington, DC 20426, or by calling (202) 502-8371. This filing may also be viewed on the Commission's Web site at http://www.ferc.gov/docs-filing/elibrary.asp. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. A copy is also available for inspection and reproduction at the address in item (h) above.

n. Individuals desiring to be included on the Commission's mailing list should so indicate by writing to the Secretary of the Commission.

o. Comments, Protests, or Motions to Intervene: Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

p. Filing and Service of Responsive Documents: Any filing must (1) Bear in all capital letters the title “COMMENTS”, “PROTEST”, or “MOTION TO INTERVENE” as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis and otherwise comply with the requirements of 18 CFR 4.34(b). All comments, motions to intervene, or protests should relate to project works which are the subject of the license surrender. Agencies may obtain copies of the application directly from the applicant. A copy of any protest or motion to intervene must be served upon each representative of the applicant specified in the particular application. If an intervener files comments or documents with the Commission relating to the merits of an issue that may affect the responsibilities of a particular resource agency, they must also serve a copy of the document on that resource agency. A copy of all other filings in reference to this application must be accompanied by proof of service on all persons listed in the service list prepared by the Commission in this proceeding, in accordance with 18 CFR 4.34(b) and 385.2010.

Dated: April 6, 2017.
Kimberly D. Bose,
Secretary.

[FR Doc. 2017-07357 Filed 4-11-17; 8:45 am]

BILLING CODE 6717-01-P